DEPARTMENT OF ENERGY

Agency Information Collection Extension

AGENCY: U.S. Department of Energy.

ACTION: Notice and request for comments.

SUMMARY: The Department of Energy (DOE), pursuant to the Paperwork Reduction Act of 1995), intends to propose an information collection request package with the Office of Management and Budget (OMB) concerning the Weatherization Assistance Program Evaluation which is needed to gather information in order to fund the weatherization of approximately 100,000 low-income homes each year. Comments submitted in response to this notice will be summarized and/or included in the request for OMB approval of this information collection; they also will become a matter of public record. Information about the operation of the program, energy used before and after weatherization, energy used by control group low-income homes, the effectiveness of specific energy conservation measures, customer satisfaction with the program, and non-energy benefits is needed for a comprehensive and rigorous evaluation of the program.

DATES: Comments regarding this proposed information collection must be received on or before March 13, 2007. If you anticipate difficulty in submitting comments within that period, contact the person listed below as soon as possible.

ADDRESSES: Written comments may be sent to: Jeffrey Martus, Records Management Division, IM-11/Germantown Building, Office of the Chief Information Officer, U.S. Department of Energy, 19901 Germantown Road, Germantown, MD 20874-1290 or by fax at 301-903-9061 or by e-mail at jeffrey.martus@hq.doe.gov.

FOR FURTHER INFORMATION CONTACT: Requests for additional information or copies of the information collection instrument and instructions should be directed to Jeffrey Martus at the address listed above in ADDRESSES.

SUPPLEMENTARY INFORMATION: This package contains: (1) OMB No.: 1910-XXXX; (2) Package Title: The Weatherization Assistance Program Evaluation; (3) Type of Review: New Collection; (4) Purpose: This collection of information is necessary for a complete evaluation of the program in order to fund to the weatherization of approximately 100,000 low-income homes each year; (5) Respondents: There are 1700 to 2000 respondents; (6) Estimated Number of Burden Hours: 73,000.

Statutory Authority: Department of Energy Organization Act, Public Law 95-91, of August 4, 1977.

Issued in Washington, DC.
Sharon A. Evelin,
Acting Director, Records Management Division, Office of the Chief Information Officer.

[FR Doc. E7-307 Filed 1-11-07; 8:45 am]

BILLING CODE 6450-01-P